DEPARTMENT OF DEFENSE

Office of the Secretary

[No. DOD-2007-HA-0002]

Submission for OMB Review; Comment Request

ACTION: Notice.

The Department of Defense has submitted to OMB for clearance, the following proposal for collection of information under the provisions of the Paperwork Reduction Act (44 U.S.C. Chapter 35).

DATES: Consideration will be given to all comments received by July 2, 2007.

Title and OMB Number: TRICARE Network Provider Survey; OMB Control Number 0720-TBD.

Type of Request: New.

Number of Respondents: 9,000.

Responses Per Respondent: 1.

Annual Responses: 9,000.

Average Burden Per Response: .31.

Annual Burden Hours: 2,790.

Needs and Uses: The goals of this survey effort are to stress TRICARE Network Provider satisfaction, attitudes and perceptions regarding the services provided by civilian Health Care Support and Service Contractors (HCSS) and TRICARE.

Affected Public: Individuals or households; Federal government.

Frequency: Annually.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for the Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: May 21, 2007.
Patricia L. Toppings,
Alternate OSD Federal Register Liaison Officer, Department of Defense.

[FR Doc. 07-2708 Filed 5-31-07; 8:45 am]

BILLING CODE 5001-06-M